DEPARTMENT OF AGRICULTURE

Rural Utilities Service

[Docket #: RUS-23-WATER-0013]

Notice of Funding Opportunity for Calendar Year 2022 Disaster Circuit Rider Technical Assistance Grants Program; Water and Environmental Programs; Extension of Submission Deadline

AGENCY: Rural Utilities Service, USDA.

ACTION: Notice; extension of submission deadline.

SUMMARY: The Rural Utilities Service (RUS or the Agency), a Rural Development (RD) mission area of the United States Department of Agriculture (USDA), announced its acceptance of applications under the Calendar Year (CY) 2022 Disaster Circuit Rider Technical Assistance (CY 2022 Disaster CRTA) Grants Program in a Notice of Funding Opportunity (NOFO) in the Federal Register on September 28, 2023. This notice is extending the date by which applications can be submitted through grants.gov.

DATES: The deadline for submissions regarding the NOFO published September 28, 2023, at 88 FR 66797, is extended from October 30, 2023, to November 7, 2023.

ADDRESSES: Applications and supporting information must be submitted electronically through Grants.gov via https://www.grants.gov.

FOR FURTHER INFORMATION CONTACT: Penny Douglas, Grant Manager, Water and Environmental Programs, RUS, USDA, by phone at (202) 253-0504 or by email at Water-RD@usda.gov.

SUPPLEMENTARY INFORMATION:

Background

The Agency is extending the deadline for submissions regarding the CY 2022 Disaster CRTA Grant Program NOFO published September 28, 2023, at 88 FR 66797, from October 30, 2023, to November 7, 2023. This change is being made due to grants.gov completing an upgrade that will have the system unavailable from October 28 to October 31, 2023.

Andrew Berke,
Administrator, Rural Utilities Service, USDA Rural Development.

[FR Doc. 2023-23700 Filed 10-24-23; 4:15 pm]

BILLING CODE 3410-15-P